DEPARTMENT OF AGRICULTURE

Forest Service

Ochoco, Umatilla, Wallowa-Whitman National Forests; Oregon and Washington; Blue Mountains Forest Resiliency Project

AGENCY: Forest Service, USDA.

ACTION: Notice of intent to prepare an environmental impact statement.

SUMMARY: The Ochoco, Umatilla, and Wallowa-Whitman National Forests, are proposing forest restoration and fuels reduction on portions of approximately 1,270,000 acres of National Forest System lands. The project area consists of selected watersheds amounting to 200,000 acres on the Ochoco, 520,000 acres on the Umatilla, and 550,000 acres on the Wallowa-Whitman National Forests. Proposed thinning and prescribed fire treatments encompass approximately 580,000 acres across the three National Forests. The project area lies within the Blue Mountain ecoregion in northeast Oregon and southeast Washington, encompasses portions of thirteen counties, and includes shared boundaries with private, tribal, state and other federal lands.

Studies of historical forest conditions can be used to help inform natural ranges of variation in forest structure, composition and density, which are assumed to be resilient to disturbance and change. Fire suppression and past timber management practices in dry forests have increased the abundance of closed-canopied forest stands dominated by smaller diameter, young trees than were present historically. Increased canopy closure has also reduced the amount of forest openings and early seral habitat. Fire suppression has also caused expansion of conifers into aspen stands and historically non-forested areas. Denser forests combined with drought conditions in recent years have contributed to a record number of wildfires, and less resilient forest conditions. There is a need to reduce fuels and move forests to a more resilient structure, composition, density, and pattern.

The purpose of the project is to enhance landscape and species resilience to future wildfire by restoring forests to their natural (historical) range of variation, reduce the risk of wildfire to high value resources both on and adjacent to National Forest System lands, and provide a diversity of economic opportunities and commodities.

The USDA Forest Service will prepare an Environmental Impact Statement to disclose the potential environmental effects of implementing restoration treatments on National Forest System lands within the project area.

DATES: Comments concerning the scope of the analysis must be received by 60 days following the date that this notice appears in the Federal Register. The draft environmental impact statement (DEIS) is expected in summer of 2016 and the final environmental impact statement (FEIS) is expected in December 2016. The comment period on the DEIS will close 45 days after the date the EPA publishes the Notice of Availability in the Federal Register. An FEIS and draft Record of Decision (ROD) will be published after all comments are reviewed and responded to. Objections to the FEIS and draft ROD must be filed 45 days following publication of the legal notice of the “opportunity to object”. Only individuals or organizations that submitted specific written or oral comments during a designated opportunity for public participation (scoping or the public comment period for the DEIS) may object (36 CFR 218.5). Notices of objection must meet the requirements outlined in the Code of Federal Regulations. Implementation, including treatment layout and site specific surveys would begin in 2017. One or more separate RODs will be prepared for each of the three National Forests. The life of this project plan is approximately 10 years after a decision is signed.

ADDRESSES: Send written comments to: Blue Mountains Restoration Strategy Team Lead, 72510 Coyote Rd., Pendleton, OR 97801. Comments may also be sent via email to: r6restorationprojects@fs.fed.us, or via facsimile to 541-278-3730 c/o Blue Mountains Restoration Strategy.

FOR FURTHER INFORMATION CONTACT: Ayn Shlisky, Blue Mountains Restoration Strategy Team Lead, Umatilla National Forest, 72510 Coyote Rd., Pendleton, OR 97801; phone 541-278-3762. Individuals who use telecommunication devices for the deaf (TDD) may call the Federal Information Relay Service (FIRS) at 1-800-877-8339 between 8 a.m. and 8 p.m., Eastern Time, Monday through Friday.

SUPPLEMENTARY INFORMATION:

Background

The USDA Forest Service PNW Region's Eastside Restoration Strategy (ERS) was chartered in January 2013 to accelerate the pace and scale of forest restoration on National Forest System (NFS) lands in eastern Oregon and Washington. The ERS focuses on accelerating forest restoration at a larger scale and faster pace than traditional planning and project implementation processes, The Blue Mountains Forest Resiliency Project (FRP) is part of the ERS, and was chartered by the Forest Supervisors of the Ochoco, Umatilla, and Wallowa-Whitman National Forests to restore the structure, composition, and function of dry forests, and facilitate the effective use, where appropriate, of planned and unplanned landscape scale fire across all forest types on these National Forests. The project area lies within the Blue Mountains ecoregion in northeast Oregon and southeast Washington, and consists of approximately 1,270,000 acres of NFS lands. The overall project planning area consists of selected watersheds amounting to 200,000 acres on the Ochoco, 520,000 acres on the Umatilla, and 550,000 acres on the Wallowa-Whitman National Forests. It includes portions of 13 counties and shared boundaries with private, tribal, state and other federal lands. The project area coincides with ceded lands of three treaty tribes (Confederated Tribes of the Umatilla Indian Reservation, the Nez Perce Tribe and the Confederated Tribes of the Warms Springs Reservation). The Burns-Paiute Tribe, as an Executive Order Tribe, does not have off reservation rights but maintains traditional cultural interests in the Blue Mountain Forest Resiliency Project planning area. This project was intentionally designed to encompass a large scale and narrow scope; test new planning processes; monitor results; learn from project results, and adapt as needed to achieve desired outcomes on the landscape. The project will produce a single Environmental Impact Statement (EIS), which can support decision-making across portions of the three national forests that are not in an Inventoried Roadless Area, designated Wilderness area, Wild and Scenic River, Research Natural Area, or other management area restricted from implementing the proposed activities, or not already covered by similar, existing forest restoration planning efforts.

Purpose and Need for Action

The 2015 fire season set a new record for the number of acres burned in the United States, totaling over 10 million acres. In 2015, the Blue Mountains National Forests of Oregon and Washington reported over 282,000 acres burned in wildfires. Throughout the FRP area, unusually large and severe wildfires have become more common due to decades of fire suppression, past timber management practices, and climate change. Wildfire transmission to the rural-wildland interface, private forestlands and woodlots, campgrounds, guard stations, communication towers, and other high value resources; and the increasing cost of fire suppression are of major concern to local communities and land managers. Studies of historical forest conditions can be used to help inform natural ranges of variation (RV) in forest structure, composition, density, and pattern, which are assumed to be resilient to disturbance and change. Dry upland forests have become denser and expanded into historically non-forested areas, ladder fuels have increased, and the abundance of large and/or fire-tolerant tree species has declined relative to the RV. Dry upland forest types are also showing a deficit of open canopied stands dominated by large, fire-tolerant trees of ponderosa pine, western larch, and Douglas-fir. Some areas show a deficit of large tree dominated, closed-canopied stands. Forests within the project area have also become increasingly vulnerable to uncharacteristic outbreaks of insects and diseases. Plant and animal species adapted to historical forest structures and disturbance regimes are also at risk of loss. The economic livelihood of several communities is threatened by the potential loss of jobs and industries dependent on resilient forest systems and their active restoration.

The current pace of active forest restoration with thinning and prescribed burning in the Blue Mountains is not keeping pace with forest growth. Over 2.3 million acres in the Blue Mountains are in need of active management toward the RV, with over 1.6 million of these acres occurring on NFS lands. Scenario modelling by the Forest Service in April 2013 revealed that at the current rate of project planning and implementation, the RV on NFS lands in the Blue Mountains would not be achieved for decades, if at all. Active forest management depends on thriving local restoration industries, helps maintain jobs and consistency of forest products from national forestlands, and can reduce fire suppression costs. The existence of active local collaborative groups within the project area provides opportunities to more effectively integrate a range of social values and concerns into project plans. To create a future forest that is more resilient to changing fire regimes and climate, there is a need to take greater action now to restore our landscapes, increase fire's beneficial effects, and reduce the exposure of communities, highly valued resources, and fire sensitive habitats to the unwanted effects of fire and other damaging disturbances.

Existing conditions for dry forests on the Ochoco, Umatilla, and Wallowa-Whitman National Forests differ from the RV in the amounts of small tree versus large tree dominated forests, and open versus closed-canopied forests. The average of RV is about 4% of dry forests for small tree, closed-canopied stands, where trees are mostly less than about 20″ dbh and canopy cover is greater than about 40%. Current conditions of these forests are 15%, 40% and 55% for the Ochoco, Umatilla, and Wallowa-Whitman National Forests, respectively.

The average of RV is about 10% of dry forests for large tree, closed-canopied stands, where trees are mostly greater than about 20″ dbh and canopy cover is greater than about 40%. Current conditions of these forests are 50%, 2%, and 1% for the Ochoco, Umatilla, and Wallowa-Whitman National Forests, respectively.

The average of RV is about 55% of dry forests for large tree, open-canopied stands, where trees are mostly greater than about 20″ dbh and canopy cover is less than about 40%. Current conditions fo these forests are about 10%, 2%, and 3% for the Ochoco, Umatilla, and Wallowa-Whitman National Forests, respectively.

Fire regimes also differ from the RV. The continuity of surface, ladder, and crown fuel is increasing and generally resulting in a change in fire regime from lower severity, higher frequency fire towards higher severity, lower frequency fire. The 50 year average of annual acres burned was about 18,000, 26,000 and 34,000 acres for the Ochoco, Umatilla, and Wallowa-Whitman National Forests, respectively, before the current fire suppression era. The majority of these fires were of low severity, and relatively high frequency. The available current fire suppression era fire history for these forests indicates that on average about 4,000, 5,000, and 13,000 acres burn annually. The size and frequency of high severity fires are generally greater, and the size and frequency of low severity fires are generally lower across Blue Mountains forests than desired. Transmission of high severity fire from NFS lands to other land ownerships is increasing, in some cases resulting in economic and infrastructure losses.

The project purpose and need is represented by differences between existing and desired conditions based on Forest Plan management direction. In most cases, desired conditions are similar to the RV, except where the Forest Plan or the existence of conflicting values specify otherwise. In general, there is a need in the project area to:

Reduce overabundant closed-canopied forest stands in dry forest; maintain existing old forests and increase their abundance over the long term; increase the abundance of fire-tolerant tree species and large tree dominated stands; and restore forest patterns and disturbance regimes that are more reflective of the RV, including reestablishing historic openings and grasslands;

Enhance landscape resilience to future wildfire, and insect and disease outbreaks, and increase public and firefighter safety in the event of a wildfire;

Enhance the diversity and quality of habitat conditions across the planning area to improve overall abundance and distribution of wildlife habitat that is more reflective of the RV;

Restore tribal treaty resources, and high social values associated with traditional uses and culture that are related to the forest restoration need;

Maintain and enhance resources of high social value, and support local economies by providing a diversity of resource management activities, commodity outputs, ecosystem services, and employment opportunities from public lands;

Improve existing road networks to provide access for forest treatments while meeting forest plan standards and guidelines as well as Endangered Species Act consultation guidance;

Build and strengthen relationships among National Forest stakeholders through collaborative processes; and,

Reduce fuel loading in strategic locations to promote safe and effective use of planned and unplanned fire.

The FRP will operate within social, policy, regulatory, and legal constraints, and Forest Plan goals and objectives, except where forest plan amendments are needed and proposed. This proposal was developed under the guidance of the 1989 Ochoco National Forest Land and Resource Management Plan (LRMP); 1990 Umatilla National Forest LRMP; 1990 Wallowa-Whitman National Forest LRMP, and is compatible with the Cohesive Wildfire Strategy.

Proposed Action

The proposed action responds to the purpose and need for the FRP. No treatments are proposed in any area that is within an existing, active project planning area, a recently burned or implemented project area, Wilderness, Research Natural Area, Inventoried Roadless Area, or in an area identified by the respective Forest Supervisor as being of low restoration priority. The proposed action was constructed by comparing current conditions to the RV across all ownerships at the scale of watersheds (5th field hydrologic units of 45,000-200,000 acres each). This “all lands” analysis provided the context for determining the treatment need, and the appropriate level of proposed treatment on NFS lands within the project area. The proposed action discloses the general nature of proposed treatments on NFS lands by National Forest, and potential and existing vegetation types using the best available information. More information and maps can be found on the project Web site http://www.fs.usda.gov/goto/forestresiliencyproject. After scoping, analysis of public comments, collaborative engagement, and continued improvement of project data, the proposal will be modified and refined to reflect data of higher resolution consistent with the other planning alternatives analyzed in the DEIS.

All proposed forest treatments would be designed to create forest patterns more reflective of natural disturbance regimes, and facilitate safe and effective fire management to conserve high value resources. Forest treatments may include one or more of the following activities: Thinning/low severity fire—removes small (5-10″ dbh) and medium sized (10-20″ dbh) trees to reduce stand density and canopy cover, and with time and growth, lead to an increase in average stand diameter.

Opening—through mixed severity fire or mechanical treatments, removes a major proportion of medium and large trees (>20″ dbh) to create openings, or canopy gaps of early seral structure and composition.

Other disturbance/growth—thinning to manage for young stands, while increasing tree growth and vigor.

Growth with low severity fire—allows forest succession and growth to occur while maintaining an open forest canopy.

Grassland restoration—thinning and fire treatments to reduce conifer expansion within grasslands, and reestablish historic grassland/forest edges.

Aspen enhancement—thinning and fire treatments to reduce conifer expansion within aspen inclusions, and stimulate aspen regeneration to the historical extent of the aspen clone.

Strategic fuel treatments—includes any of the treatment types above, and other actions that change fuel abundance and arrangement, and decrease resistance to wildfire control at strategic locations to facilitate safe and effective fire management at appropriate spatial scales.

On the Ochoco National Forest, thinning and low severity fire would be applied to dry forests on about 115,000 acres within the project planning area:

20,500 acres of smaller diameter (<20″ dbh), closed-canopied (> about 40% canopy cover) stands to move them toward more open conditions, and encourage growth in average diameter. Opening treatments would also be used to create canopy gaps, where needed; 18,000 acres of smaller diameter, open canopied (< about 40% canopy cover) stands to move them toward more open conditions encourage growth in average diameter, and/or restore desirable fire regimes. Opening treatments would also be used to create canopy gaps, where needed;

55,000 acres of larger diameter (> about 20″ dbh), closed-canopied stands to move them toward more open conditions, and encourage growth in average diameter;

15,000 acres in larger diameter, open stands to restore desirable fire regimes, and encourage growth in average diameter without reducing the abundance of large tree, open canopied stands overall;

4,000 acres for grassland restoration; and

100 acres of aspen inclusions to reduce conifer expansion and stimulate aspen regeneration.

On the Ochoco National Forest, strategic fuel treatments could be applied on up to 5,800 acres of smaller diameter moist and cold forest to achieve desired planned and unplanned fire behavior, facilitate safe and effective fire management, conserve high value resources, and restore fire at landscape scales more reflective of the RV. These treatments would be integrated with upland dry forest treatments to achieve landscape-level objectives.

On the Umatilla National Forest, thinning and low severity fire would be applied to dry forests on about 125,000 acres within the project planning area:

69,500 acres of smaller diameter, closed-canopied stands to move them toward more open conditions and encourage growth in average diameter. Opening treatments would also be used to create canopy gaps, where needed;

36,000 acres of smaller diameter, open stands to move them toward more open conditions and encourage growth in average diameter, and/or restore desirable fire regimes. Opening treatments would also be used to create canopy gaps, where needed;

1,000 acres of larger diameter, closed-canopied stands to move them toward more open conditions, and encourage growth in average diameter;

4,200 acres of larger diameter, open stands to restore desirable fire regimes, and encourage growth in average diameter without reducing the abundance of large tree, open canopied stands overall;

14,000 acres for grassland restoration; and

300 acres of aspen inclusions to reduce conifer expansion and stimulate aspen regeneration.

On the Umatilla National Forest, strategic fuel treatments could be applied on up to about 87,500 acres of smaller diameter moist and cold forest to achieve desired planned and unplanned fire behavior, facilitate safe and effective fire management, conserve high value resources, and restore fire at landscape scales more reflective of the RV. These treatments would be integrated with upland dry forest treatments to achieve landscape-level objectives.

On the Wallowa-Whitman National Forest, thinning and low severity fire would be applied to dry forests on about 190,000 acres within the project planning area:

127,500 acres of smaller diameter, closed-canopied stands to move them toward more open conditions and encourage growth in average diameter. Opening treatments would also be used to create canopy gaps, where needed;

39,500 acres of smaller diameter, open stands to move them toward more open conditions, encourage growth in average diameter, and/or restore desirable fire regimes. Opening treatments would also be used to create canopy gaps, where needed;

1,000 acres of larger diameter, closed-canopied stands to move them toward more open conditions, and encourage growth in average diameter;

7,200 acres in larger diameter, open dry forests to restore desirable fire regimes, and encourage growth in average diameter without reducing the abundance of large tree, open canopied stands overall;

15,000 acres for grassland restoration; and

200 acres of aspen inclusions to reduce conifer expansion and stimulate aspen regeneration.

On the Wallowa-Whitman National Forest, strategic fuel treatments could be applied on up to 90,000 acres of smaller diameter moist and cold forest to achieve desired planned and unplanned fire behavior, facilitate safe and effective fire management, conserve high value resources, and restore fire at landscape scales more reflective of the RV. These treatments would be integrated with upland dry forest treatments to achieve landscape-level objectives.

Forest treatments in any Category of riparian habitat conservation area would be limited to prescribed fire and small diameter thinning (<9″ dbh), and adhere to the Blue Mountains Project Design Criteria, which were developed under programmatic informal consultation between the Wallowa-Whitman, Umatilla (and Malheur) National Forests and the National Marine Fisheries Service (November 2013).

Any treatment in old forest management areas, as designated in the respective forest plan, would be to support development of old forest characteristics and/or achieve forest plan desired conditions.

The proposed action would utilize the existing road system currently in place to facilitate implementation of vegetation and strategic fuel treatment activities. No new road construction is proposed, unless it is to meet standard and guidelines or Endangered Species Act consultation guidance for road location (e.g., to relocate a road currently in a riparian habitat conservation area). Where necessary, currently closed roads may be used to implement treatments, but they would be closed immediately after use. The range of alternatives analyzed in the DEIS will include one or more proposed road systems that, post implementation, would meet Forest Plan standards and guidelines and consultation guidance provided during the development of those plans. Temporary road construction would be based on site suitability, kept to a minimum to minimize detrimental effects such as soil disturbance and potential erosion, designed whenever possible and suitable over existing disturbance footprints (i.e., legacy roads), located to avoid stream crossings, and obliterated upon completion of project implementation.

Additional benefits of implementation of the proposed action include maintenance and enhancement of culturally significant resources, settings, viewsheds, and sensitive plant and animal species habitat, including those of interest to the Tribes. A monitoring strategy will be developed to support learning and sharing lessons learned through time. Input from interested parties and the most current, applicable science will be used to guide the learning strategy.

Connected actions that would be analyzed as a part of the EIS include hazard tree removal, snag creation, down wood creation, soil remediation (subsoiling, scarification), invasive plant treatment, native seeding of disturbed sites, system road reconstruction, road maintenance, re-closure of roads opened to implement treatments, water source development, material source development, installation of erosion control features, culvert replacement for haul support, activity fuel preparation and treatment, hand line construction, temporary fencing, stump treatment for annosus root rot, and reforestation. A suite of Best Management Practices (BMPs) and Project Design Criteria (PDC) will be integrated into the design of alternatives and the analysis of effects to ensure that relevant natural resources, tribal treaty resources, and social values are managed and protected in a manner consistent with policy, law, and regulation. BMPs and PDCs will also serve to ensure that implementation of the actions described in the ROD are properly executed.

The purpose and need for action is consistent with the Ochoco, Umatilla, and Wallowa-Whitman National Forest Land and Resource Management Plans (LRMP), as amended and applicable. Other key guiding policies include, but are not limited to, the Endangered Species Act, National Forest Management Act, National Cohesive Wildland Fire Management Strategy, and all laws and executive orders and Forest Service policies guiding Tribal consultation.

Go to http://www.fs.usda.gov/goto/forestresiliencyproject for more detailed information and maps of the project area and proposed treatments.

Forest Plan Amendments

If necessary to meet the purpose and need of the FRP, the Forest Service may need to amend one or more Forest Plans for activities such as cutting large trees (>21″ in diameter), restoring or conserving old forest characteristics, restoring forest structure in elk habitat, or maintaining current road densities.

Responsible Official

The responsible officials for decisions on the Ochoco, Umatilla, and Wallowa-Whitman National Forests are their respective Forest Supervisors.

Nature of Decision To Be Made

This proposed action is a proposal and not a decision. The Forest Supervisors of the Ochoco, Umatilla, and Wallowa-Whitman National Forests will decide, for their respective Forests, whether to implement the action as proposed, whether to take no action at this time, or whether to implement any alternatives that are analyzed. The Forest Supervisors will also decide whether to amend their respective Land and Resource Management Plan, if necessary to implement the decision.

Scoping Process

This notice of intent initiates the scoping process, which guides the development of the environmental impact statement. Issues that are raised with the proposal may lead to alternative ways to meet the purpose and need of the project. Scoping will also be used to determine site specific concerns that are relevant to forest treatment locations.

It is important that reviewers provide their comments at such times and in such manner that they are useful to the agency's preparation of the environmental impact statement. Therefore, comments should be provided prior to the close of the comment periods and should clearly articulate the reviewer's concerns and contentions.

Comments received in response to this solicitation, including names and addresses of those who comment, will be part of the public record for this proposed action. Comments submitted anonymously will be accepted and considered.

Several public engagement sessions will be held in Blue Mountains communities in March 2016 before completion of the scoping period.It is important that reviewers provide their comments at such times and in such manner that they are useful to the agency's preparation of the environmental impact statement. Therefore, comments should be provided prior to the close of the comment period and should clearly articulate the reviewer's concerns and contentions.

Dated: February 1, 2016.
Stacey L. Forson,
Forest Supervisor, Ochoco National Forest.
Dated: January 29, 2016.
Genevieve R. Masters,
Forest Supervisor, Umatilla National Forest.
Dated: January 29, 2016.
Tom Montoya,
Forest Supervisor, Wallowa-Whitman National Forest.

[FR Doc. 2016-02269 Filed 2-4-16; 8:45 am]

BILLING CODE 3410-11-P